DEPARTMENT OF HOMELAND SECURITY

Federal Emergency Management Agency

[Docket ID FEMA-2013-0002]

Changes in Flood Hazard Determinations

AGENCY: Federal Emergency Management Agency, DHS.

ACTION: Final notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama: Lee (FEMA Docket No.: B-1245) | City of Auburn (11-04-8290P) | The Honorable Bill Ham, Jr., Mayor, City of Auburn, 144 Tichenor Avenue, Auburn, AL 36830 | Public Works Department, 171 North Ross Street, Auburn, AL 36830 | May 4, 2012 | 010144
Louisiana: Ascension (FEMA Docket No.: B-1305) | Unincorporated areas of Ascension Parish (11-06-4231P) | The Honorable Tommy Martinez, President, Ascension Parish, 208 East Railroad Avenue, Gonzales, LA 70737 | Ascension Parish President's Office, 208 East Railroad Avenue, Gonzales, LA 70737 | March 29, 2013 | 220013
Oklahoma:
Tulsa (FEMA Docket No.: B-1289) | City of Collinsville (12-06-4005P) | The Honorable Herb Weaver, Mayor, City of Collinsville, 106 North 12th Street, Collinsville, OK 74021 | 106 North 12th Street, Collinsville, OK 74021 | March 28, 2013 | 400360
Tulsa (FEMA Docket No.: B-1289) | Unincorporated areas of Tulsa County (12-06-4005P) | The Honorable John Smaligo, Chairman, Tulsa County Board of Commissioners, 500 South Denver Avenue, Tulsa, OK 74103 | Tulsa County Annex Building, 633 West 3rd Street, Room 140, Tulsa, OK 74127 | March 28, 2013 | 400462
Texas:
Bexar (FEMA Docket No.: B-1289) | Unincorporated areas of Bexar County (12-06-2613P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | March 25, 2013 | 480035
Harris (FEMA Docket No.: B-1289) | Unincorporated areas of Harris County (12-06-1133P) | The Honorable Ed Emmett, Harris County Judge, 1001 Preston Street, Suite 911, Houston, TX 77002 | Harris County, 10555 Northwest Freeway, Houston, TX 77092 | March 28, 2013 | 480287
Tarrant (FEMA Docket No.: B-1305) | City of North Richland Hills (12-06-2052P) | The Honorable T. Oscar Trevino, Jr., P.E., Mayor, City of North Richland Hills, 7301 Northeast Loop 820, North Richland Hills, TX 76180 | City Hall, 7301 Northeast Loop 820, North Richland Hills, TX 76180 | April 4, 2013 | 480607
Travis (FEMA Docket No.: B-1289) | City of Austin (12-06-2306P) | The Honorable Lee Leffingwell, Mayor, City of Austin, P.O. Box 1088, Austin, TX 78767 | Watershed Protection Department, 505 Barton Springs Road, 12th Floor, Austin, TX 78704 | April 1, 2013 | 480624
Travis (FEMA Docket No.: B-1302) | Unincorporated areas of Travis County (12-06-2557P) | The Honorable Samuel T. Biscoe, Travis County Judge, P.O. Box 1748, Austin, TX 78767 | Travis County Permits Counter, 700 Lavaca Street, Suite 547, Austin, TX 78701 | March 25, 2013 | 481026
Travis (FEMA Docket No.: B-1289) | Unincorporated areas of Travis County (12-06-2306P) | The Honorable Samuel T. Biscoe, Travis County Judge, P.O. Box 1748, Austin, TX 78767 | Travis County Permits Counter, 700 Lavaca Street, Suite 547, Austin, TX 78701 | April 1, 2013 | 481026
Webb (FEMA Docket No.: B-1289) | City of Laredo (12-06-2634P) | The Honorable Raul G. Salinas, Mayor, City of Laredo, 1110 Houston Street, Laredo, TX 78040 | 1120 San Bernardo Avenue, Laredo, TX 78042 | March 18, 2013 | 480651
Virginia:
Loudoun (FEMA Docket No.: B-1305) | Town of Purcellville (12-03-0984P) | The Honorable Robert W. Lazaro, Jr., Mayor, Town of Purcellville, 221 South Nursery Avenue, Purcellville, VA 20132 | Town Hall, 221 South Nursery Avenue, Purcellville, VA 20132 | March 18, 2013 | 510231
Loudoun (FEMA Docket No.: B-1305) | Unincorporated areas of Loudoun County (12-03-0984P) | The Honorable Scott K. York, Chairman-at-Large, Loudoun County Board of Supervisors, 1 Harrison Street Southeast, 5th Floor, Mailstop 1, Leesburg, VA 20175 | Loudoun County Building and Development Department, 1 Harrison Street Southeast, Leesburg, VA 20175 | March 18, 2013 | 510090
Prince William (FEMA Docket No.: B-1289) | Unincorporated areas of Prince William County (12-03-0457P) | The Honorable Melissa S. Peacor, County Executive, Prince William County, 1 County Complex Court, Prince William, VA 22192 | Prince William County Watershed Management Branch, 5 County Complex Court, Suite 170, Prince William, VA 22192 | March 18, 2013 | 510119

(Catalog of Federal Domestic Assistance No. 97.022, “Flood Insurance.”)

Roy E. Wright,
Deputy Associate Administrator for Mitigation, Department of Homeland Security, Federal Emergency Management Agency.

[FR Doc. 2013-13376 Filed 6-4-13; 8:45 am]

BILLING CODE 9110-12-P